DEPARTMENT OF HOUSING AND URBAN DEVELOPMENT

[Docket No. FR-5332-N-02]

Notice of Availability: Notice of Funding Availability (NOFA) for HUD's Fiscal Year (FY) 2009 Rental Assistance for Non-Elderly Persons With Disabilities

AGENCY: Office of the Assistant Secretary for Public and Indian Housing, HUD.

ACTION: Notice.

SUMMARY: Through this notice, HUD announces the availability on its website of the application information, submission deadlines, funding criteria, and other requirements for the Fiscal Year 2009 Rental Assistance for Non-Elderly Persons with Disabilities Notice of Funding Availability (NOFA). The Omnibus Appropriations Act, 2009 (Pub. L. 111-8) makes available approximately $40 million for incremental Section 8 Housing Choice Vouchers (HCV) for non-elderly disabled families served by entities (which the NOFA limits to public housing agencies) with demonstrated experience and resources for supportive services). This money should fund approximately 5,300 HCVs. The notice providing information regarding the application process, funding criteria and eligibility requirements is available on the Grants.gov Web site at https://apply07.grants.gov/apply/forms_apps_idx.html. A link to Grants.gov is also available on the HUD Web site at http://www.hud.gov/offices/adm/grants/fundsavail.cfm. The Catalogue of Federal Domestic Assistance (CFDA) numbers for Section 8 Housing Choice Vouchers is 14.871. Applications must be submitted electronically through Grants.gov.

FOR FURTHER INFORMATION CONTACT: Questions regarding specific HCV program requirements should be directed to Phyllis Smelkinson by phone at 202-402-4138 or by e-mail at Phyllis.A.Smelkinson@hud.gov or the NOFA Information Center at 800-HUD-8929 (toll-free). Persons with hearing or speech impairments may access these numbers via TTY by calling the Federal Information Relay Service at 800-877-8339. The NOFA Information Center is open between the hours of 10 a.m. and 6:30 p.m. eastern time, Monday through Friday, except federal holidays.

Dated: April 1, 2010.
Deborah Hernandez,
General Deputy Assistant Secretary for Public and Indian Housing.

[FR Doc. 2010-8430 Filed 4-12-10; 8:45 am]

BILLING CODE 4210-67-P